DEPARTMENT OF ENERGY

DOE/Advanced Scientific Computing Advisory Committee

AGENCY: Department of Energy, Office of Science.

ACTION: Notice of open meeting.

SUMMARY: This notice announces a meeting of the Advanced Scientific Computing Advisory Committee (ASCAC). Federal Advisory Committee Act (Pub. L. 92-463, 86 Stat. 770) requires that public notice of these meetings be announced in the Federal Register.

DATES: Tuesday, October 28, 2008, 9 a.m. to 5:15 p.m.; Wednesday, October 29, 2008, 9 a.m. to 12 p.m.

ADDRESSES: Hilton Washington DC North, 620 Perry Parkway, Gaithersburg, MD 20877.

FOR FURTHER INFORMATION CONTACT: Melea Baker, Office of Advanced Scientific Computing Research; SC-21/Germantown Building; U.S. Department of Energy; 1000 Independence Avenue, SW.; Washington, DC 20585-1290; Telephone (301) 903-7486, (E-mail: Melea.Baker@science.doe.gov).

SUPPLEMENTARY INFORMATION: Purpose of the Meeting: The purpose of this meeting is to provide advice and guidance with respect to the advanced scientific computing research program.

Tentative Agenda: Agenda will include discussions of the following:

Tuesday, October 28, 2008

View from Washington and Germantown.

Report Discussion on Charge—Balance.

Petascale Data Storage Institute.

SciDAC Update (Mid-Term Review Plans).

ASCR Response to INCITE COV and New Charge—Computer Science COV.

Simulating Nuclear Power Plants.

Update on Applied Math Program.

Large-Scale PDE-Constrained Optimization.

Public Comment.

Wednesday, October 29, 2008

Exascale Workshops.

Graph-Based Approaches to Multi-Threading.

Facilities Update.

Public Comment.

Public Participation: The meeting is open to the public. If you would like to file a written statement with the Committee, you may do so either before or after the meeting. If you would like to make oral statements regarding any of the items on the agenda, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule. This notice is being published less than 15 days before the date of the meeting due to programmatic issues.

Minutes: The minutes of this meeting will be available for public review at http://www.sc.doe.gov/ascr/ASCAC/PastMeetings.html.

Issued in Washington, DC, on October 9, 2008.
Rachel Samuel,
Deputy Committee Management Officer.

[FR Doc. E8-24643 Filed 10-15-08; 8:45 am]

BILLING CODE 6450-01-P